RAILROAD RETIREMENT BOARD

Privacy Act of 1974 Revision to Existing System of Records

AGENCY: Railroad Retirement Board (RRB).

ACTION: Notice of proposed routine use.

SUMMARY: The purpose of this document is to republish an existing system of records, give notice of a new routine use in that system of records, and provide the current locations of the offices of the RRB.

DATES: The proposed routine use will become effective as proposed without further notice in 40 calendar days from the date of this publication unless comments are received before this date which would result in a contrary determination.

ADDRESSES: Send comments to Beatrice Ezerski, Secretary to the Board, Railroad Retirement Board, 844 North Rush Street, Chicago, Illinois 60611-2092.

FOR FURTHER INFORMATION CONTACT: Lynn Harvey, Chief Privacy Officer, Railroad Retirement Board, 844 North Rush Street, Chicago, Illinois 60611-2092; telephone: 312 751-4869, e-mail: lynn.harvey@rrb.gov.

SUPPLEMENTARY INFORMATION: The RRB proposes a new routine use (paragraph “rr.”) for its system of records, RRB-22, Railroad Retirement, Survivor, and Pensioner Benefit System, which has been republished in its entirety. The new routine use would allow disclosure of the railroad employee's social security number to an individual eligible for railroad retirement benefits on that employee's earnings record when the employee's social security number would be contained in the railroad retirement claim number of that individual. The current locations of RRB offices are contained in Appendix I, and may also be obtained by visiting the agency Web site at http://www.rrb.gov.

By Authority of the Board.
Beatrice Ezerski,
Secretary to the Board.

RRB-22

SYSTEM NAME:

Railroad Retirement, Survivor, and Pensioner Benefit System.

SYSTEM LOCATION:

U.S. Railroad Retirement Board, 844 Rush Street, Chicago, Illinois 60611 Regional and District Offices: See Appendix I for addresses.

SECURITY CLASSIFICATION:

None.

CATEGORIES OF INDIVIDUALS COVERED BY THE SYSTEM:

Applicants for retirement and survivor benefits, their dependents (spouses, divorced spouses, children, parents, grandchildren), individuals who filed for lump-sum death benefits and/or residual payments.

CATEGORIES OF RECORDS IN THE SYSTEM:

Information pertaining to the payment or denial of an individual's claim for benefits under the Railroad Retirement Act: Name, address, social security number, claim number, proofs of age, marriage, relationship, military service, creditable earnings and service months (including military service), entitlement to benefits under the Social Security Act, programs administered by the Veterans Administration, or other benefit systems, rates, effective dates, medical reports, correspondence and telephone inquiries to and about the beneficiary, suspension and termination dates, health insurance effective date, option, premium rate and deduction, direct deposit data, employer pension information, citizenship status and legal residency status (for annuitants living outside the United States), and tax withholding information (instructions of annuitants regarding number of exemptions claimed and additional amounts to be withheld, as well as actual amounts withheld for tax purposes).

AUTHORITY FOR MAINTENANCE OF THE SYSTEM:

Section 7(b)(6) of the Railroad Retirement Act of 1974 (U.S.C. 231f(b)(6)).

PURPOSE(S):

Records in this system of records are maintained to administer the benefit provisions of the Railroad Retirement Act, sections of the Internal Revenue Code related to the taxation of railroad retirement benefits, and Title XVIII of the Social Security Act as it pertains to Medicare coverage for railroad retirement beneficiaries.

ROUTINE USES OF RECORDS MAINTAINED IN THE SYSTEM, INCLUDING CATEGORIES OF USERS, AND THE PURPOSES OF SUCH USES:

a. Beneficiary identifying information may be disclosed to third party contacts to determine if incapacity of the beneficiary or potential beneficiary to understand or use benefits exists, and to determine the suitability of a proposed representative payee.

b. In the event the Board has determined to designate a person to be the representative payee of an incompetent beneficiary, disclosure of information concerning the benefit amount and other similar information may be made to the representative payee from the record of the individual.

c. Entitlement and benefit rates may be released to primary beneficiaries regarding secondary beneficiaries (or vice versa) when the addition of such beneficiary affects either the entitlement or benefit payment.

d. Identifying information such as full name, address, date of birth, social security number, employee identification number, and date last worked, may be released to any last employer to verify entitlement for benefits under the Railroad Retirement Act.

e. Beneficiary identifying information, address, check rates, number and date may be released to the Department of the Treasury to control for reclamation and return of outstanding benefit payments, to issue benefit payments, act on report of non-receipt, to insure delivery of payments to the correct address of the beneficiary or representative payee or to the proper financial organization, and to investigate alleged forgery, theft or unlawful negotiation of railroad retirement benefit checks or improper diversion of payments directed to a financial organization.

f. Beneficiary identifying information, address, check rate, date, number and other supporting evidence may be released to the U.S. Postal Service for investigation of alleged forgery or theft of railroad retirement or social security benefit checks.

g. Beneficiary identifying information, entitlement data, medical evidence and related evaluatory data and benefit rate may be released to the Social Security Administration and the Centers for Medicare & Medicaid Services to correlate actions with the administration of Title II and Title XVIII of the Social Security Act, as amended.

h. Beneficiary identifying information, including social security account number, and supplemental annuity amounts may be released to the Internal Revenue Service, State and local taxing authorities for tax purposes (Form G-1099, for those annuitants receiving supplemental annuities).

i. Beneficiary identifying information, entitlement, benefit rates, medical evidence and related evaluatory data, and months paid may be furnished to the Veterans Administration for the purpose of assisting that agency in determining eligibility for benefits or verifying continued entitlement to and the correct amount of benefits payable under programs which it administers.

j. Beneficiary identifying information, entitlement data and benefit rates may be released to the Department of State and embassy and consular officials, the American Institute on Taiwan, and to the Veterans Administration Regional Office, Philippines, to aid in the development of applications, supporting evidence, and the continued eligibility of beneficiaries and potential beneficiaries living abroad.

k. Beneficiary identifying information, entitlement, benefit rates and months paid may be released to the Social Security Administration (Bureau of Supplemental Security Income) the Centers for Medicare & Medicaid Services, to federal, state and local welfare or public aid agencies to assist them in processing applications for benefits under their respective programs.

l. The last addresses and employer information may be released to the Department of Health and Human Services in conjunction with the Parent Locator Service.

m. Beneficiary identifying information, entitlement, rate and other pertinent data may be released to the Department of Labor in conjunction with payment of benefits under the Federal Coal Mine and Safety Act.

n. [Reserved]

o. Medical evidence may be released to Board-appointed medical examiners to carry out their functions.

p. Information obtained in the administration of Title XVIII (Medicare) which may indicate unethical or unprofessional conduct of a physician or practitioner providing services to beneficiaries may be released to Professional Standards Review Organizations and State Licensing Boards.

q. Information necessary to study the relationship between benefits paid by the Railroad Retirement Board and civil service annuities may be released to the Office of Personnel Management.

r. Records may be disclosed to the General Accountability Office for auditing purposes and for collection of debts arising from overpayments under Title II and Title XVIII of the Social Security Act, as amended, or the Railroad Retirement Act.

s. Records may be released to contractors to fulfill contract requirements pertaining to specific activities related to the Railroad Retirement Act.

t. Disclosure may be made to a congressional office from the record of an individual in response to an inquiry from the congressional office made at the request of that individual.

u. Pursuant to a request from an employer covered by the Railroad Retirement Act or the Railroad Unemployment Insurance Act, or from an organization under contract to an employer or employers, information regarding the Board's payment of retirement benefits, the methods by which such benefits are calculated, entitlement data and present address may be released to the requesting employer or the organization under contract to an employer or employers for the purposes of determining entitlement to and rates of private supplemental pension, sickness or unemployment benefits and to calculate estimated benefits due.

v. If a request for information pertaining to an individual is made by an official of a labor organization of which the individual is a member and the request is made on behalf of the individual, information from the record of the individual concerning his benefit or anticipated benefit and concerning the method of calculating that benefit may be disclosed to the labor organization official.

w. Records may be disclosed in a court proceeding relating to any claims for benefits by the beneficiary under the Railroad Retirement Act, and may be disclosed during the course of an administrative appeal to individuals who need the records to prosecute or decide the appeal or to individuals who are requested to provide information relative to an issue involved in the appeal.

x. In the event that this system of records, maintained by the Railroad Retirement Board to carry out its functions, indicates a violation or potential violation of law, whether civil, criminal, or regulatory in nature, and whether arising by general statute or particular program statute, or by regulation, rule or order issued pursuant thereto, the relevant records in the system of records may be referred, as a routine use, to the appropriate agency, whether federal, state, local or foreign, charged with the responsibility of investigating or prosecuting such violation or charged with enforcing or implementing the statute, rule, regulation or order issued pursuant thereto, provided that disclosure would be to an agency engaged in functions related to the Railroad Retirement Act or provided that disclosure would be clearly in the furtherance of the interest of the subject individual.

y. Information in this system of records may be released to the attorney representing such individual in connection with the individual's claim for benefits under the Railroad Retirement Act, upon receipt of a written letter or declaration stating the fact of representation, subject to the same procedures and regulatory prohibitions as the subject individual.

z. The amount of a residual lump-sum payment and the identity of the payee may be released to the Internal Revenue Service for tax audit purposes.

aa. The amount of any death benefit or annuities accrued but unpaid at death and the identity of such payee may be released to the appropriate state taxing authorities for tax assessment and auditing purposes.

bb. Beneficiary identifying information, including but not limited to name, address, social security account number, payroll number and occupation, the fact of entitlement and benefit rate may be released to the Pension Benefit Guaranty Corporation to enable that agency to determine and pay supplemental pensions to qualified railroad retirees.

cc. Medical records may be disclosed to vocational consultants in administrative proceedings.

dd. Date employee filed application for annuity to the last employer under the Railroad Retirement Act for use in determining entitlement to continued major medical benefits under insurance programs negotiated with labor organizations.

ee. Information regarding the determination and recovery of an overpayment made to an individual may be released to any other individual from whom any portion of the overpayment is being recovered.

ff. The name and address of an annuitant may be released to a Member of Congress when the Member requests it in order that he or she may communicate with the annuitant about legislation which affects the railroad retirement system.

gg. Certain identifying information about annuitants, such as name, social security number, RRB claim number, and date of birth, as well as address, year and month last worked for a railroad, last railroad occupation, application filing date, annuity beginning date, identity of last railroad employer, total months of railroad service, sex, disability onset date, disability freeze onset date, and cause and effective date of annuity termination may be furnished to insurance companies for administering group life and medical insurance plans negotiated between certain participating railroad employers and railway labor organizations.

hh. For payments made after December 31, 1983, beneficiary identifying information, address, amounts of benefits paid and repaid, beneficiary withholding instructions, and amounts withheld by the RRB for tax purposes may be furnished to the Internal Revenue Service for tax administration purposes.

ii. Relevant information may be disclosed to the Office of the President for responding to an individual pursuant to an inquiry from that individual or from a third party in his/her behalf.

jj. Last address and beneficiary identifying information may be furnished to railroad employers for the purpose of mailing railroad passes to retired employees and their families.

kk. Entitlement data and benefits rates may be released to any court, state agency, or interested party, or to the representative of such court, state agency, or interested party, in connection with contemplated or actual legal or administrative proceedings concerning domestic relations and support matters.

ll. Identifying information about annuitants and applicants may be furnished to agencies and/or companies from which such annuitants and applicants are receiving or may receive worker's compensation, public pension, or public disability benefits in order to verify the amount by which Railroad Retirement Act benefits must be reduced, where applicable.

mm. Disability annuitant identifying information may be furnished to state employment agencies for the purpose of determining whether such annuitants were employed during times they receive disability benefits.

nn. Identifying information about Medicare-entitled beneficiaries who may be working may be disclosed to the Centers for Medicare & Medicaid Services for the purposes of determining whether Medicare should be the secondary payer of benefits for such individuals.

oo. Disclosure of information in claim folders is authorized for bonafide researchers doing epidemiological/mortality studies approved by the RRB who agree to record only information pertaining to deceased beneficiaries.

pp. Identifying information for beneficiaries, such as name, SSN, and date of birth, may be furnished to the Social Security Administration and to any State for the purpose of enabling the Social Security Administration or State through a computer or manual matching program to assist the RRB in identifying female beneficiaries who remarried but who may not have notified the RRB of their remarriage.

qq. An employee's date last worked, annuity filing date, annuity beginning date, and the month and year of death may be furnished to AMTRAK when such information is needed by AMTRAK to make a determination whether to award a travel pass to either the employee or the employee's widow.

rr. The employee's social security number may be disclosed to an individual eligible for railroad retirement benefits on the employee's earnings record when the employee's social security number would be contained in the railroad retirement claim number.

DISCLOSURE TO CONSUMER REPORTING AGENCIES

None.

POLICIES AND PRACTICES FOR STORING, RETRIEVING, ACCESSING, RETAINING, AND DISPOSING OF RECORDS IN THE SYSTEM:

STORAGE:

Paper, microforms, magnetic tape and magnetic disk.

RETRIEVABILITY:

Claim number, social security number and full name.

SAFEGUARDS:

Papers and microforms: Maintained in areas not accessible to the public, offices are locked during non-business hours. Magnetic tape and magnetic disk: Computer and computer storage rooms are restricted to authorized personnel; on-line query safeguards include a lock/unlock password system, a terminal oriented transaction matrix and an audit trail; for computerized records electronically transmitted between headquarters and field office locations, system securities are established in accordance with National Institute of Standards and Technology guidelines. In addition to the on-line query safeguards, they include encryption of all data transmitted and exclusive use of leased telephone lines.

RETENTION AND DISPOSAL:

Paper.—Individual claim folders with records of all actions pertaining to the payment of claims are transferred to the Federal Records Center, Chicago, Illinois 5 years after the date of last payment or denial activity if all benefits have been paid, no future eligibility is apparent and no erroneous payments are outstanding. The claim folder is destroyed 25 years after the date it is received in the center. Account receivable listings and checkwriting operations daily activity listings are transferred to the Federal Records Center 1 year after the date of issue and are destroyed 6 years and 3 months after receipt at the center. Other paper listings are destroyed 1 year after the date of issue. Change of address source documents are destroyed after 1 year.

Microforms.—Originals are kept for 3 years, transferred to the Federal Records Center, and destroyed when 8 years old. One duplicate copy is kept 2 years and destroyed by shredding. All other duplicate copies are kept 1 year and destroyed by shredding.

Magnetic tape.—Magnetic tape records are used to daily update the disk file, are retained for 90 days and then written over. For disaster recovery purposes certain tapes are stored 12-18 months.

Magnetic disk.—Continually updated and permanently retained.

SYSTEM MANAGER(S) AND ADDRESS:

Office of Programs—Director of Policy and Systems, Railroad Retirement Board, 844 Rush Street, Chicago, Illinois 60611-2092

NOTIFICATION PROCEDURE:

Requests for information regarding an individual's records should be in writing, including the full name, social security number and railroad retirement claim number (if any) of the individual. Before information about any records will be released, the individual may be required to provide proof of identity, or authorization from the individual to permit release of information. Such requests should be sent to: Office of Programs—Director of Operations, Railroad Retirement Board, 844 Rush Street, Chicago, Illinois 60621-2092.

RECORD ACCESS PROCEDURE:

See Notification section above.

CONTESTING RECORD PROCEDURE:

See Notification section above.

RECORD SOURCE CATEGORIES:

Individual applicants or their representatives, railroad employers, other employers, physicians, labor organizations, Federal, State and local government agencies, attorneys, funeral homes, congressmen, schools, foreign governments.

EXEMPTIONS CLAIMED FOR THE SYSTEM:

None.

* * * * *

Appendix I

Offices of the U.S. Railroad Retirement Board

A. Regional Offices

Region 1

Peachtree Summit Bldg, Rm 1703, 401 West Peachtree St., Atlanta, GA 30308

Region 2

Nix Federal Building, 900 Market St., Suite 304, Philadelphia, PA 19107

Region 3

1999 Broadway, Suite 2260, Denver, CO 80202

B. District Offices

Alabama

Medical Forum Bldg., Rm 426, 950 22nd Street North, Birmingham, AL 35203-1134

Arizona

Financial Plaza, Ste 4850, 1201 South Alma School Road, Mesa, AZ 85210-2097

Arkansas

1200 Cherry Brook Drive, Suite 500, Little Rock, AR 72211-4113

California

858 Oak Park Road, Suite 102, Covina, CA 91724-3674

Oakland Fed Bldg, Ste 392N, 1301 Clay St., Oakland, CA 94612-5220

801 I Street, Rm 205, Sacramento, CA 95814-2559

Colorado

721 19th Street, Room 177, PO Box 8869, Denver, CO 80201-8869

Florida

550 Water Street Building, Suite 330, 550 Water Street, Jacksonville, FL 32202-5177

Timberlake Fed Bldg, Ste 300, 500 E. Zack St., Tampa, FL 33602-3918

Georgia

Peachtree Summit Bldg, Rm 1702, 401 W Peachtree St., Atlanta, GA 30308-3519

Illinois

844 N Rush St., Rm 901, Chicago, IL 60611-2092

Millikin Court, Ste 517, 132 S Water St., Decatur, IL 62523-1077

63 West Jefferson Street, Suite 102, PO Box 457, Joliet, IL 60434-0457

Indiana

The Meridian Centre, Ste 303, 50 S Meridian, Indianapolis, IN 46204-3530

Iowa

Fed Bldg, Rm 921, 210 Walnut St., Des Moines, IA 50309-2182

Kansas

1861North Rock Road, Suite 390, Wichita, KS 67206-1264

Kentucky

Theatre Bldg, Ste 301, 629 S 4th Ave., PO Box 3705, Louisville, KY 40201-3705

Louisiana

Hale Boggs Federal Bldg., 500 Poydras St., Rm 1045, New Orleans, LA 70130-3394

Maryland

George H. Fallon Bldg., 31 Hopkins Plaza, Suite 820, Baltimore, MD 21201-2825

Massachusetts

408 Atlantic Ave, Room 441, PO Box 52126, Boston, MA 02205-2126

Michigan

McNamara Fed Bldg, Ste 1199, 477 W Michigan Ave, Detroit, MI 48226-2596

Minnesota

Fed Bldg, Rm 125, 515 W First St., Duluth, MN 55802-1392

180 E 5th St., Ste 195, St. Paul, MN 55101-1631

Missouri

601 E 12th St., Rm 113, Kansas City, MO 64106-2808

Young Fed Bldg, Rm 7.303, 1222 Spruce St., St. Louis, MO 63103-2818

Montana

Judge Jameson Fed Bldg, Rm 101, 2900 Fourth Ave., North, Billings, MT 59101-1266

Nebraska

Hruska U.S. Cthse, Ste C125 111 S 18 Plaza, PO Box 815, Omaha, NE 68101-0815

New Jersey

20 Washington Place, Rm 516, Newark, NJ 07102-3110

New Mexico

300 San Mateo Blvd, NE., Ste 401, Albuquerque, NM 87108-1503

New York

O'Brien Fed Bldg, Rm 264,Clinton Ave., & Pearl St, PO Box 529, Albany, NY 12201-0529

186 Exchange St., Ste 110, Buffalo, NY 14204-2026

1400 Old Country Road, Ste 202, Westbury, NY 11590-5119

Fed Bldg, Rm 3404, 26 Federal Plaza, New York, NY 10278-0105

North Carolina

Quorum Business Park, Ste 120 7508 E Independence Blvd., Charlotte, NC 28227-9409

North Dakota

USPO Bldg, Rm 312, 657 Second Ave North, Fargo, ND 58102-4727

Ohio

URS Building Suite 201, 36 E 7th St, Cincinnati, OH 45202-4439

Celebrezze Fed Bldg, Rm 907, 1240 E 9th St, Cleveland, OH 44199-2093

Oregon

Green-Wyatt Fed Bldg, Rm 377, 1220 SW 3rd Ave, Portland, OR 97204-2807

Pennsylvania

1514 11th Avenue, PO Box 990, Altoona, PA 16603-0990

Fed Bldg, Rm 576, 228 Walnut St, Box 11697, Harrisburg, PA 17108-1697

Nix Fed Bldg, 900 Market St., Ste 301, PO Box 327, Philadelphia, PA 19105-0327

Moorhead Fed Bldg, Rm 1511, 1000 Liberty Ave., Pittsburgh, PA 15222-4107

Siniawa Plaza II, 717 Scranton Carbondale Hwy, Scranton, PA 18508-1121

Tennessee

233 Cumberland Bend, Ste 104, Nashville, TN 37228-1813

Texas

819 Taylor St, Rm 10G02, PO Box 17420, Fort Worth, TX 76102-0420

Leland Fed Bldg, Ste 845, 1919 Smith, Houston, TX 77002-8051

Utah

125 S State St, Rm 1205, Salt Lake City, UT 84138-1137

Virginia

400 North 8th St., Ste 470, Richmond, VA 23219-4819

First Campbell Square, Ste 260, 210 First Street, SW, PO Box 270, Roanoke, VA 24002-0270

Washington

Pacific First Plaza, Ste 201, 155 108th Ave, NE, Bellevue, WA 98004-5901

US Cthse, Rm 492, W 920 Riverside Ave, Spokane, WA 99201-1081

West Virginia

New Fed Bldg, Rm 145, 640 4th Ave, PO Box 2153, Huntington, WV 25721-2153

Wisconsin

Reuss Plaza, Ste 1300, 310 W Wisconsin Ave, Milwaukee, WI 53203-2219

[FR Doc. E7-8448 Filed 5-2-07; 8:45 am]

BILLING CODE 7905-01-P